DEPARTMENT OF TRANSPORTATION

Federal Aviation Administration

14 CFR Part 39

[Docket No. 2001-SW-42-AD; Amendment 39-12941; AD 2002-22-14]

RIN 2120-AA64

Airworthiness Directives; Bell Helicopter Textron, Inc. Model 204B, 205A, 205A-1, 205B, 212, 214B, and 214B-1 Helicopters

AGENCY: Federal Aviation Administration, DOT.

ACTION: Final rule.

SUMMARY: This amendment supersedes an existing airworthiness directive (AD) for specified Bell Helicopter Textron, Inc. (BHTI) model helicopters that requires reducing the retirement time for certain main rotor tension-torsion (TT) straps on those models and on the Model UH-1 series helicopters. This document contains the same requirements as the existing AD but removes the Model UH-1 series restricted category helicopters and adds the BHTI Model 205A and 205B helicopters to the applicability. This amendment is prompted by the issuance of a separate AD for the Model UH-1 series helicopters and the need to add the BHTI Model 205A and 205B helicopters to the applicability because the affected straps are eligible for installation on these model helicopters. The actions specified by this AD are intended to prevent failure of a TT strap, loss of a main rotor blade, and subsequent loss of control of the helicopter.

DATES: Effective December 13, 2002.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION: A proposal to amend 14 CFR part 39 to include an AD for specified model helicopters was published in the Federal Register on May 21, 2002 (67 FR 35763). On July 31, 1980, the FAA issued AD 80-17-09, Amendment 39-3876 (45 FR 54014, August 14, 1980), Docket No. 80-ASW-25. That AD requires replacing certain TT straps on or before attaining 1200 hours time in service (TIS) or 24 months, whichever occurs first, for the BHTI Model 204B, 205A-1, 212, 214B, 214B-1, and the Model UH-1 series military helicopters. That action was prompted by an offshore accident of a BHTI Model 212 helicopter in which a TT strap reportedly failed in flight after 2,140 hours TIS with resulting loss of the main rotor blade. The requirements of that AD are intended to prevent failure of a TT strap, loss of a main rotor blade, and subsequent loss of control of the helicopter.

Since the issuance of that AD, a separate AD was issued (67 FR 61771, October 2, 2002) for the military surplus restricted category helicopters that includes the Model UH-1 series helicopters, hence the removal of the Model UH-1 series helicopters from the applicability of this AD. Also, further review indicates that the affected TT straps are eligible for installation on the BHTI Model 205A and 205B helicopters. Therefore, this AD includes those models in the applicability.

To further address this unsafe condition that is likely to exist or develop on other helicopters of these same type designs, this AD supersedes AD 80-17-09. This AD contains the requirements of AD 80-17-09 but changes the applicability by removing the restricted category Model UH-1 series helicopters and adding the BHTI Model 205A and 205B helicopters.

Interested persons have been afforded an opportunity to participate in the making of this amendment. No comments were received on the proposal or the FAA's determination of the cost to the public. The FAA has determined that air safety and the public interest require the adoption of the rule as proposed except for minor editorial changes. These changes will neither increase the economic burden on operators nor increase the scope of the AD.

The FAA estimates that this AD will affect 168 helicopters of U.S. registry. The FAA also estimates that it will take 8 work hours to replace the TT straps at an average labor rate of $60 per work hour. The TT straps will cost approximately $10,484 per helicopter. Based on these figures, the total cost impact of the AD on U.S. operators is estimated to be $1,840,352.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-3876 (45 FR 54014, August 14, 1980) and by adding a new airworthiness directive (AD), Amendment 39-12941, to read as follows:

2002-22-14 Bell Helicopter Textron, Inc.: Amendment 39-12941. Docket No. 2001-SW-42-AD. Supersedes AD 80-17-09, Amendment 39-3876, Docket No. 80-ASW-25.

Applicability: Model 204B, 205A, 205A-1, 205B, 212, 214B, and 214B-1 helicopters, with main rotor tension-torsion (TT) strap, part number (P/N) 204-012-122-1, -5, or 214-010-179-1, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent separation of a TT strap, loss of a main rotor blade, and subsequent loss of control of the helicopter, accomplish the following:

(a) Before further flight, remove and replace any TT strap with 1,200 or more hours time-in-service (TIS) or 24 or more months since initial installation on any helicopter, whichever occurs first.

(b) This AD revises the Limitations section of the maintenance manual by establishing a life limit for the TT straps, P/N 204-012-122-1, -5, or 214-010-179-1, of 1200 hours TIS or 24 months since initial installation on any helicopter, whichever occurs first.

(c) Special flight permits will not be issued.

(d) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 2: Information concerning the existence of approved alternative methods of compliance with this AD, if any, may be obtained from the Rotorcraft Certification Office.

(e) This amendment becomes effective on December 13, 2002.

Issued in Fort Worth, Texas, on October 28, 2002.
David A. Downey,
Manager, Rotorcraft Directorate, Aircraft Certification Service.

[FR Doc. 02-28411 Filed 11-7-02; 8:45 am]

BILLING CODE 4910-13-P